DEPARTMENT OF AGRICULTURE

Natural Resources Conservation Service

Notice of Proposed Change to the Natural Resources Conservation Service's National Handbook of Conservation Practices

AGENCY: Natural Resources Conservation Service (NRCS), U.S. Department of Agriculture, Maine State Office.

ACTION: Notice of availability of proposed changes in the NRCS National Handbook of Conservation Practices, Section IV of the Maine State NRCS Field Office Technical Guide (FOTG) located at www.me.nrcs.usda.gov under “Draft Standards for Comments” for review and comment.

SUMMARY: It is the intention of NRCS to issue revised conservation practice standards in its National Handbook of Conservation Practices. These revised standards are the following: 327 Conservation Cover; 330 Contour Farming; 340 Cover & Green Manure Crop; 324 Deep Tillage; 380 Farmstead & Feedlot Windbreak; 394 Firebreak; 511 Forage Harvest Management; 666 Forest Stand Improvement; 655 Forest Harvest Trails and Landings; 412 Grassed Waterway or Outlet; 561 Heavy Use Area Protection; 441 Irrigation System, Microirrigation; 590 Nutrient Management; 595 Pest Management; 516 Pipeline; 521A Pond Sealing or Lining Flexible Membrance Lining; 338 Prescribed Burning; 391 Riparian Forest Buffer; 490 Site for Woody Plant Establishment; 580 Streambank & Shoreline Protection; 395 Stream Habitat Improvement and Management; 585 Stripcropping, Contour; 612 Tree and Shrub Establishment; 660 Tree and Shrub Pruning; 620 Underground Outlet; 472 Use Exclusion; 313 Waste Storage Facility; 359 Waste Treatment Lagoon; 642 Water Well; 351 Well Decommissioning; 657 Wetland Restoration; 644 Wildlife Upland Habitat Management.

DATES: Comments will be received on or before July 9, 2001.

FOR FURTHER INFORMATION CONTACT: Inquire in writing to Christopher R. Jones, Assistant State Conservationist for Technology/Planning, Natural Resources Conservation Service (NRCS), 967 Illinois Avenue, Suite #3; Bangor, Maine 04401.

A copy of this standard is available from the above individual.

SUPPLEMENTARY INFORMATION: Section 343 of the Federal Agricultural Improvement and Reform Act of 1996 states that revisions made after enactment of the law to NRCS State Technical Guides used to carry out highly erodible land and wetland provisions of the law shall be made available for public review and comment. For the next 30 days the NRCS will receive comments relative to the proposed changes. Following that period a determination will be made by the NRCS regarding disposition of those comments and a final determination of change will be made.

Dated: May 4, 2001.
Christopher R. Jones,
Assistant State Conservationist for Technology/Planning.

[FR Doc. 01-14314 Filed 6-6-01; 8:45 am]

BILLING CODE 3410-16-P